DEPARTMENT OF AGRICULTURE

Forest Service

Revised Land and Resource Management Plan for the National Forests in Mississippi

AGENCY: Forest Service, USDA.

ACTION: Notice of extension of public scoping period.

SUMMARY: On December 14, 1999, the Forest Service published in the Federal Register a Notice of Intent to prepare an environmental impact statement for the revision of the Forest Land and Resource Management Plan (Forest Plan) for the National Forests in Mississippi (64 FR 69686-69691, December 14, 1999). The December 14th notice initiated a 60 day public scoping period inviting written comments from interested and affected citizens to assist in identifying and developing recommendations on the management of the National Forests in Mississippi. The agency now gives notice of an extension of the initial scoping period for Forest Plan revision. Originally, the scoping period was scheduled to close on Monday, February 14, 2000, the agency has extended the initial public scoping period to March 31, 2000.

DATE: Public comment began on December 14, 1999, and will end on March 31, 2000.

ADDRESSES: Submit written comments to Forest Supervisor, National Forests in Mississippi, 100 West Capitol St., Suite 1141, Jackson, MS 39269.

FOR FURTHER INFORMATION CONTACT: Jeff Long, Land Management Planning Revision Team Leader, (601) 965-4391.

Responsible Official:

The Regional Forester for the Southern Region located at 1720 Peachtree Road, NW, Atlanta, Georgia 30367.

SUPPLEMENTARY INFORMATION: The public scoping period originally began on December 14, 1999. The agency hosted twenty-three public meetings around the state of Mississippi during January 2000 and attended numerous other meetings hosted by various interest groups and organizations to solicit public comments. Based upon requests received from the public and the agency's desire to foster and promote a collaborative planning effort the initial public scoping period has been extended to March 31, 2000.

Public participation and involvement will be encouraged throughout the Forest Plan revision process. The intent of the March 31st deadline for initial public scoping comments is to enable the agency to formally shift its efforts from gathering issues and comments and begin the process of addressing the specific issues that have been raised. Immediately upon close of the initial public scoping period the agency will focus efforts on understanding and clarifying the issues received during scoping. The agency will invite and encourage public participation in this next phase of the revision process.

The responsible official is Elizabeth Estill, Regional Forester, Southern Region, 1720 Peachtree Road, NW, Atlanta, Georgia 30367.

Dated: February 11, 2000.
David G. Holland,
Deputy Regional Forester, Natural Resources.

[FR Doc. 00-3884 Filed 2-17-00; 8:45 am]

BILLING CODE 3410-11-M